ADVISORY COUNCIL ON HISTORIC PRESERVATION

Notice of Amendments to the Program Comment for the U.S. General Services Administration on Select Envelope and Infrastructure Repairs and Upgrades to Historic Public Buildings

AGENCY: Advisory Council on Historic Preservation.

ACTION: Notice.

SUMMARY: The Advisory Council on Historic Preservation (ACHP) has approved amendments to the Program Comment for the U.S. General Services Administration (GSA) that sets forth the way in which GSA complies with Section 106 of the National Historic Preservation Act for select repairs and upgrades to windows, lighting, roofing, and heating, ventilating, and air conditioning (HVAC) systems within historic public buildings. The amendments extend the life of the Program Comment through August 1, 2033, and update its reporting requirements.

DATES: The amendments took effect on July 27, 2018.

ADDRESSES: Address any questions concerning the amendments to Kirsten Kulis, Office of Federal Agency Programs, Advisory Council on Historic Preservation, 401 F Street NW, Suite 308, Washington, DC 20001.

FOR FURTHER INFORMATION CONTACT: Kirsten Kulis, (202) 517-0217, kkulis@achp.gov.

SUPPLEMENTARY INFORMATION: Section 106 of the National Historic Preservation Act requires federal agencies to consider the effects of their undertakings on historic properties and to provide the Advisory Council on Historic Preservation (ACHP) a reasonable opportunity to comment with regard to such undertakings. The ACHP has issued the regulations that set forth the process through which Federal agencies comply with these duties. Those regulations are codified under 36 CFR part 800 (Section 106 regulations).

Under Section 800.14(e) of those regulations, agencies can request the ACHP to provide a “Program Comment” on a particular category of undertakings in lieu of conducting individual reviews of each individual undertaking under such category, as set forth in 36 CFR 800.4 through 800.7. An agency can meet its Section 106 responsibilities with regard to the effects of particular aspects of those undertakings by taking into account an applicable Program Comment and following the steps set forth in that comment.

On August 7, 2009, the ACHP issued such a Program Comment, for use by the General Services Administration (GSA), regarding repairs and upgrades to windows, lighting, roofing, and heating, ventilating, and air conditioning. Under the Program Comment, such repairs are undertaken using GSA's Technical Preservation Guidelines (https://www.gsa.gov/node/80914), and are limited to those that do not adversely affect the qualities that qualify a subject historic building for listing in the National Register of Historic Places.

That Program Comment was set to expire on August 1, 2018. Earlier this year, GSA requested the ACHP to extend its term for fifteen (15) years, until August 1, 2033, and to de-couple its reporting requirements from those that occur under Section 3 of Executive Order 13287.

In late May 2018, after GSA requested consideration of such amendments, the ACHP held a conference call with the National Conference of State Historic Preservation Officers and the National Park Service (Technical Preservation Services). In late June 2018, ACHP emailed its members and other stakeholders requesting comments. Perhaps given the limited nature of the Program Comment itself and the straightforwardness of the proposed amendments, ACHP did not receive any substantive comments. The non-substantive comments received were incorporated and are reflected in final amended version (see below).

The ACHP membership voted unanimously to adopt the mentioned amendments on July 20, 2018.

What follows is the text of the Program Comment, incorporating the adopted amendments:

Program Comment for General Services Administration Repairs and Upgrades to Windows, Lighting, Roofing, and Heating, Ventilating, and Air-Conditioning (HVAC), as Amended

I. Establishment and Authority: This Program Comment was issued by the Advisory Council on Historic Preservation (ACHP) as “Program Comment for General Services Administration Repairs and Upgrades to Windows, Lighting, Roofing, and Heating, Ventilating, and Air-Conditioning (HVAC)” on August 7, 2009, pursuant to 36 CFR 800.14(e). It provides the General Services Administration (GSA) with an alternative way to comply with its responsibilities under Section 106 of the National Historic Preservation Act, 54 U.S.C. 306108, and its implementing regulations, 36 CFR part 800 (Section 106), with regard to the effects of repairs and upgrades to windows, lighting, roofing, and heating, ventilating and air conditioning (HVAC) systems (Repairs/Upgrades) that follow the appended GSA Technical Preservation Guidelines (Guidelines). The appended Guidelines have been reviewed by the National Park Service, which confirms that they are in keeping with the Secretary of the Interior's Standards on Rehabilitation. This Program Comment was amended in July 2018 to, among other things, extend its duration to August 1, 2033.

II. Applicability to General Services Administration: Only GSA may use this Program Comment.

III. Date of Effect: This Program Comment went into effect on August 7, 2009 and was amended in July 2018.

IV. Use of This Program Comment To Comply With Section 106 Regarding the Effects of the Repairs and Upgrades:

(1) GSA may comply with Section 106 regarding the effects of Repairs/Upgrades on historic properties by:

(i) Making a determination that the proposed Repair/Upgrade may not adversely affect a historic property;

(ii) Notifying the relevant State Historic Preservation Officer (SHPO), through use of the notice form appended to this Program Comment that it intends to carry out a Repair/Upgrade:

(a) If, within 10 business days from receipt of the notification, the SHPO objects to the use of this Program Comment for the proposed Repair/Upgrade, GSA may not use the Program Comment for the proposed Repair/Upgrade. GSA will then comply with Section 106 for the proposed Repair/Upgrade in accordance with 36 CFR §§ 800.3 through 800.7 or any applicable alternative per 36 CFR 800.14.

(b) If the SHPO agrees with the proposed Repair/Upgrade, or does not object within 10 business days from receipt of the notification, GSA may proceed with the proposed Repair/Upgrade in accordance with this Program Comment;

(iii) Conducting such Repair/Upgrade as provided by the relevant Guidelines appended to this document;

(iv) Ensuring that all work on the Repair/Upgrade is designed by an architect and supervised and approved by a preservation professional, both of whom meet the relevant standards outlined in the Secretary of the Interior's Professional Qualification Standards, pursuant to 36 CFR part 61. In addition, the qualified supervisor will ensure construction phase preservation competency and quality control measures are implemented; and

(v) Keeping a record, at the relevant GSA office, detailing each use of this Program Comment for no less than five years from the final date of the implementation. Each record must include the following information:

(a) A description of the implementation of the Program Comment (including the specific location of the work);

(b) The date(s) when the Program Comment was implemented;

(c) The name(s) of the qualified personnel that carried out and/or supervised the use of the Program Comment; and

(d) A summary of the implementation, indicating how the Repair/Upgrade was carried out, any problems that arose, and the final outcome. GSA must provide copies of these records, within a reasonable timeframe, when requested by the ACHP or the relevant SHPO.

V. Discoveries: If previously unknown features are discovered while work under this Program Comment is being implemented (e.g., a mural behind plaster), GSA will notify SHPO of the discovery and provide SHPO an opportunity to object to the use of this Program Comment, per Stipulation IV(l)(ii), above.

VI. Program Comment Does Not Cover Undertakings Involving Activities Beyond the Specific Repairs/Upgrades: The Repairs/Upgrades within the scope of this Program Comment will be discrete undertakings that do not include activities beyond the Repairs/Upgrades themselves. Among other things, the Repairs/Upgrades themselves will not include earth disturbing activities, new construction, site acquisition, change of occupancy or use, or alteration of exteriors or significant interior spaces.

VII. Process for Adding or Updating Repairs/Upgrades and Guidelines: While this Program Comment, as originally adopted, was limited to repairs and upgrades to historic building windows, lighting, roofing, and heating, ventilating and air conditioning (HVAC) systems undertaken in accordance with GSA Guidelines (Appendix B), more Repairs/Upgrades (and their relevant Guidelines) may be added to it. Moreover, Guidelines already included in the Program Comment may eventually need updating. Accordingly, Repairs/Upgrades and their Guidelines may be added to this Program Comment, or updated, as follows: (1) GSA will notify the ACHP, the National Conference of State Historic Preservation Officers (NCSHPO), and the Department of the Interior (DOI) (collectively, parties) that it wants to add an Upgrade/Guideline, or to update a Guideline that is already a part of the Program Comment. Such a notification will include a draft of the proposal. (2) The parties will consult on the proposal; and (3) If a final version of the proposal is approved by the ACHP Executive Director, the ACHP will publish a notice of availability of the approved addition or update in the Federal Register. The addition or update will go into effect as part of this Program Comment upon such publication.

VIII. Process for Removing a Repair/Upgrade and Its Guideline: After consulting with the parties, the ACHP may remove a Repair/Upgrade and its Guideline from the scope of this Program Comment by publishing a Federal Register notice to that effect. The Program Comment will continue to operate with the other Repairs/Upgrades and their Guidelines that have not been removed.

IX. GSA Option To Use Applicable Section 106 Agreements: If an existing Section 106 agreement applies to a proposed Repair/Upgrade, GSA may follow either that existing agreement or this Program Comment.

X. Latest Version of the Program Comment: GSA and/or the ACHP will include the most current version of the Program Comment (with the latest amendments and updates) in a publicly accessible website. The latest Web address for that site will be included in each of the Federal Register notices for amending, removing or updating the Program Comment. This document and its 41 appended form and guidelines will initially be available at www.achp.gov and www.gsa.gov/historicpreservation.

XI. Reports: GSA will include in its reports under Section 3 of Executive Order 13287, or as separate reports submitted to the parties via electronic mail on or before the Section 3 reporting deadline, a summary of its experience implementing this Program Comment, how often and where the Program Comment has been utilized, examples of successful implementation, and examples of failures or problems with implementation.

XII. Amendment: The ACHP may amend this Program Comment (other than the appended Guidelines themselves, which are added, updated or removed according to Stipulations VII and VIII, above) after consulting with the parties and publishing a Federal Register notice to that effect.

XIII. Termination: The ACHP may terminate this Program Comment by publication of a notice in the Federal Register 30 days before the termination takes effect.

XIV. Sunset Clause: This Program Comment will terminate on its own accord on August 1, 2033, unless it is amended before that date to extend that period.

XV. Historic Properties of Significance to Indian Tribes and Native Hawaiian Organizations: This Program Comment does not apply in connection with effects to historic properties that are located on tribal lands and/or that are of religious and cultural significance to Indian tribes or Native Hawaiian organizations.

XVI. Definitions: The definitions found at 36 CFR part 800 apply to the terms used in this Program Comment.

XVII. Notification Form and GSA Technical Preservation Guidance Appendices:

Appendix A—GSA Program Comment Notification Form

GSA PROGRAM COMMENT NOTIFICATION FORM

I. General

Building name(s):

Address (city, state):

Project title:

Qualified Preservation Professional preparing report:

Date:

(Note: Qualified professionals must meet the relevant standards outlined in the Secretary of the Interior's Professional Qualification Standards, pursuant to 36 CFR part 61.)

Location of work in the building:

Project team (A/E Firm, Preservation Consultant, GSA Project Officer, Building Manager, and GSA Regional Historic Preservation Officer or Historic Preservation Program Staff Reviewer):

II. Scope and Purpose of Project (Bullets Are Acceptable)

III. Locations and Materials Affected (Check All That Apply)

Preservation Zones Affected (See Building Preservation Plan, Contact RHPO for Assistance.)

—Restoration

—Rehabilitation

—Renovation

Where does the project affect the historic property?

—Exterior

—Interior

—Lobbies/Vestibules

—Corridors

—Stairwells

—Elevators

—Restrooms

—Courtrooms

—Executive Suites

—General Office Space

—Other (specify)

What materials are affected by the project?

—Stone

—Brick

—Architectural Concrete

—Historic Roofing

—Bronze

—Architectural Metals (specify)

—Woodwork

—Ornamental Plaster

—Other (specify)

What assemblies are affected by the project?

—Windows and Skylights

—Doors

—Lighting

—Other (specify)

IV. Preservation Design Issues

List solutions explored, how resolved and why, such as (not inclusive):

—Locating new work/installation: Visibility, protection of ornamental finishes, cost concerns

—Design of new work/installation: Compatibility with existing original materials, research on original design (if original materials non-extant), materials/finishes chosen

—Method of supporting new work/installation

—Preservation and protection of historic materials

V. Graphics

Include the following:

—Site or floor plan showing work location(s)

—Captioned photographs of existing site conditions in affected restoration zone locations

—Reduced project drawings, catalogue cut sheets or photographs showing solutions

VI. Confirmation

The undersigned hereby confirms and represents to the best of his or her knowledge and belief, the following as of this date: (1) The information in this form is correct; (2) GSA has determined that the proposed work will not adversely affect a historic property; (3) this project approach is consistent with the relevant GSA Technical Preservation Guidelines; (4) the design team includes a qualified preservation architect, engineer or conservator; (5) the design addresses construction phase preservation competency and quality control; and (6) this form will be submitted to the relevant SHPO for its review and opportunity for objection in a timely manner.

GSA Regional Historic Preservation Officer Signature:

Date:

Appendix B—GSA Technical Preservation Guidelines

(Please refer to https://www.gsa.gov/node/80914 for a copy of the relevant guidelines. They are linked in that web page under the headings “Upgrading Historic Building Windows,” “Upgrading Historic Building Lighting,” “HVAC Upgrades in Historic Buildings,” and “Historic Building Roofing.”)

(END OF DOCUMENT)

Authority: 36 CFR 800.14(e).

Dated: July 24, 2018.
John M. Fowler,
Executive Director.

[FR Doc. 2018-16104 Filed 7-26-18; 8:45 am]

BILLING CODE 4310-K6-P